DEPARTMENT OF ENERGY

Federal Energy Regulatory Commission

[Docket Nos. CP04-413-000, CP04-414-000, and CP04-415-000]

Entrega Gas Pipeline Inc.; Notice of Availability of the Final Environmental Impact Statement for the Proposed Entrega Pipeline Project

July 1, 2005.

The environmental staff of the Federal Energy Regulatory Commission (FERC or Commission) has prepared a final Environmental Impact Statement (EIS) on the interstate natural gas pipeline transmission facilities proposed by Entrega Gas Pipeline Inc. (Entrega) in the above-referenced dockets.

The final EIS was prepared to satisfy the requirements of the National Environmental Policy Act (NEPA). Its purpose is to inform the Commission, the public, and other permitting agencies about the potential adverse and beneficial environmental impacts associated with the proposed project and its alternatives, and to recommend practical, reasonable, and appropriate mitigation measures which would avoid or reduce any significant adverse impacts to the maximum extent practicable and, where feasible, to less than significant levels. The final EIS concludes that approval of the proposed project, with appropriate mitigating measures as recommended, would have limited adverse environmental impact.

The Entrega Pipeline Project involves the construction and operation of a new interstate natural gas pipeline system that would extend between a proposed Meeker Hub in Rio Blanco County, Colorado; to Wamsutter, in Sweetwater County, Wyoming; and continuing on to the Cheyenne Hub in Weld County, Colorado. The final EIS assesses the potential environmental effects of the construction and operation of the following facilities in Colorado and Wyoming:

• About 328.1 miles of new pipeline of 36- and 42-inch-diameter pipeline—

—136.3 miles of 36-inch-diameter pipeline, with 86.1 miles in Colorado (Rio Blanco and Moffat Counties) and 50.2 miles in Wyoming (Sweetwater County); and

—191.8 miles of 42-inch-diameter pipeline, with 183.1 miles in Wyoming (Sweetwater, Carbon, Albany, and Laramie Counties) and 8.7 miles in Colorado (Larimer and Weld Counties);

• Three new compressor stations (the Meeker Hub and Bighole Compressor Stations in Colorado, the Wamsutter Compressor Station in Wyoming);

• Seven meter stations at interconnections with other pipeline systems (three associated with the new compressor stations, one of which would be constructed by Wyoming Interstate Company), four at the new Cheyenne Hub Metering Station in Wyoming;

• Four pig launchers and four pig receivers (six associated with compressor and metering stations, one launcher and one receiver at the new Arlington Pigging Station in Wyoming);

• 22 mainline valves (5 valves at compressor and metering stations, 17 valves along the pipeline ROW); and

• Other associated facilities, such as access roads and powerlines.

The proposed project would be capable of transporting up to 1.5 billion cubic feet of natural gas per day from the Meeker Hub Compressor Station to interconnections at:

• Wamsutter, Wyoming with the Colorado Interstate Gas Company (CIG) and Wyoming Interstate Company transmission systems that serve markets east and west of Wamsutter; and

• The Cheyenne Hub (Weld County, Colorado) with CIG, Cheyenne Plains Gas Pipeline Company, Trailblazer Pipeline Company, and Public Service Company of Colorado. These systems would transport gas to markets in the Midwest and Central U.S. and the Eastern Slope south of the Cheyenne Hub.

The purpose of the Entrega Pipeline Project is to transport natural gas from supply basins in the central Rocky Mountains to interstate pipelines at Wamsutter and the Cheyenne Hub. From these points, the gas could be transported to markets in the West, the Midwest, or the Central United States, depending on the delivery location specified by the shipper. The need for the project arises from the current and projected increase of natural gas production in the Rocky Mountain region, which is occurring without a concurrent increase in pipeline capacity to transport this gas out from the production basins and into the interstate pipeline network.

The final EIS has been placed in the public files of the FERC and is available for distribution and public inspection at: Federal Energy Regulatory Commission, Public Reference Room, 888 First Street, NE., Room 2A, Washington, DC 20426, (202) 502-8371.

A limited number of copies are available from the FERC's Public Reference Room identified above. In addition, copies of the final EIS have been mailed to Federal, State, and local agencies; public interest groups; individuals and affected landowners who have requested the draft EIS; libraries and newspapers in the project area; and parties to this proceeding.

In accordance with Council on Environmental Quality (CEQ) regulations implementing NEPA, no agency decision on a proposed action may be made until 30 days after the U.S. Environmental Protection Agency (EPA) publishes a Notice of Availability of the final EIS in the Federal Register. However, the CEQ regulations provide an exception to this rule when an agency decision is subject to a formal internal appeal process which allows other agencies or the public to make their views known. In such cases, the agency decision may be made at the same time the notice of the final EIS is published by the EPA, allowing both periods to run concurrently. The Commission's decision for this proposed action is subject to a 30-day rehearing period.

Additional information about the proposed project is available from the Commission's Office of External Affairs, at 1-866-208-FERC or on the FERC Internet Web site (http://www.ferc.gov) using the “eLibrary” link. Click on the eLibrary link, click on “General Search” and enter the docket number excluding the last three digits (i.e., CP04-413) in the Docket Number field. Be sure you have selected an appropriate date range. For assistance, please contact FERC Online Support at FERCOnlineSupport@ferc.gov or toll free at 1-866-208-3676; or for TTY, contact (202) 502-8659. The eLibrary link on the FERC Internet Web site also provides access to the texts of formal documents issued by the Commission, such as orders, notices, and rulemakings.

Magalie R. Salas,
Secretary.

[FR Doc. E5-3609 Filed 7-7-05; 8:45 am]

BILLING CODE 6717-01-P